DEPARTMENT OF THE TREASURY

Submission for OMB Review; Comment Request

December 1, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury PRA Department Clearance Officer, Department of the Treasury, Room 11010, and 1750 Pennsylvania Avenue, NW., Washington, DC 20220.

DATES: Written comments should be received on or before January 6, 2010 to be assured of consideration.

Internal Revenue Service (IRS)

OMB Number: 1545-0390.

Type of Review: Extension.

Title: Application for Approval of Prototype or Employer Sponsored Individual Retirement Account.

Form: 5306.

Description: This application is used by employers who want to establish an individual retirement account trust to be used by their employees. The application is also used by persons who want to establish approved prototype individual retirement accounts or annuities. The data collected is used to determine if plans may be approved.

Respondents: Businesses or other for-profits.

Estimated Total Burden Hours: 7,878 hours.

OMB Number: 1545-0118.

Type of Review: Extension.

Title: Taxable Distributions Received From Cooperatives.

Form: 1099-PATR.

Description: Form 1099-PATR is used to report patronage dividends paid by cooperatives (IRC sec. 6044). The information is used by IRS to verify reporting compliance on the part of the recipient.

Respondents: Businesses or other for-profits.

Estimated Total Burden Hours: 509,895 hours.

Clearance Officer: R. Joseph Durbala, (202) 622-3634, Internal Revenue Service, Room 6516, 1111 Constitution Avenue, NW., Washington, DC 20224.

OMB Reviewer: Shagufta Ahmed, (202) 395-7873, Office of Management and Budget, Room 10235, New Executive Office Building, Washington, DC 20503.

Celina M. Elphage,
Treasury PRA Clearance Officer.

[FR Doc. E9-29030 Filed 12-4-09; 8:45 am]

BILLING CODE 4830-01-P